DEPARTMENT OF COMMERCE

Foreign-Trade Zones Board

[B-38-2024]

Foreign-Trade Zone (FTZ) 265; Authorization of Production Activity; Unimacts Company; (Steel Products); Conroe, Texas

On July 3, 2024, City of Conroe, grantee of FTZ 265, submitted a notification of proposed production activity to the FTZ Board on behalf of Unimacts Company, within FTZ 265, in Conroe, Texas.

The notification was processed in accordance with the regulations of the FTZ Board (15 CFR part 400), including notice in the Federal Register inviting public comment (89 FR 57393, July 15, 2024). On October 31, 2024, the applicant was notified of the FTZ Board's decision that no further review of the activity is warranted at this time. The production activity described in the notification was authorized, subject to the FTZ Act and the FTZ Board's regulations, including section 400.14.

Dated: October 31, 2024.
Elizabeth Whiteman,
Executive Secretary.

[FR Doc. 2024-25683 Filed 11-4-24; 8:45 am]

BILLING CODE 3510-DS-P